DEPARTMENT OF DEFENSE

Office of the Secretary

Defense Innovation Board; Notice of Federal Advisory Committee Meeting

AGENCY: Department of Defense (DoD).

ACTION: Notice of Federal Advisory Committee meeting.

SUMMARY: The DoD is publishing this notice to announce that the following Federal Advisory Committee meeting of the Defense Innovation Board (DIB) will take place.

DATES: January 13, 2025, 3:00 p.m.-3:45 p.m. Eastern Standard Time (EST); open to the public, 4:00 p.m.-4:30 p.m. EST; closed to the public.

ADDRESSES: The open and closed portions of the DIB public meeting on January 13, 2025 will take place at the Pentagon, in Washington, DC The open portion of the meeting will be accessible to the public virtually, via the Defense Visual Information Distribution Service.

FOR FURTHER INFORMATION CONTACT: Dr. Marina Theodotou, Designated Federal Officer (DFO) at (703) 945-5652 (voice) or osd.innovation@mail.mil. Mailing address is Defense Innovation Board, 4800 Mark Center Drive, Suite 15D08, Alexandria, VA 22350-3600. The most up-to-date changes to the meeting agenda and link to the virtual meeting can be found on the website at https://innovation.defense.gov.

SUPPLEMENTARY INFORMATION: This meeting is being held under the provisions of chapter 10 of title 5, United States Code (U.S.C.) (commonly known as the “Federal Advisory Committee Act” or “FACA”); 5 U.S.C. 552b; and 41 Code of Federal Regulations (CFR) 102-3.140 and 102-3.150.

Due to circumstances beyond the control of the DFO and the DoD, the DIB was unable to provide public notification required by 41 CFR 102-3.150(a) concerning its January 13, 2025 meeting. The circumstances included the DIB's calendar availability related to when to hold the meeting due to the new administration transition timeline and an internal transition of the DIB to a new DoD Sponsor, the Director of the Defense Innovation Unit (DIU). Accordingly, the Advisory Committee Management Officer for the DoD, pursuant to 41 CFR 102-3.150(b), waives the 15-calendar day notification requirement.

Purpose of Meeting: The mission of the DIB is to provide the Secretary of Defense (SecDef), the Deputy Secretary of Defense (DepSecDef), and the Director of the DIU independent advice and strategic insights on emerging and disruptive technologies and their impact on national security, adoption of commercial sector innovation best practices, and ways to leverage the United States innovation ecosystem to align structures, processes, and human capital practices to accelerate and scale innovation adoption, foster a culture of innovation and an experimentation mindset, and enable the DoD to build enduring advantages. The DIB focuses on innovation-related issues and topics raised by the SecDef, the DepSecDef, or the DIU. The objective of this DIB meeting is to present its key recommendations resulting from its two current studies: “A Pathway to Scaling Unmanned Weapon Systems” and “Scaling Nontraditional Defense Innovation”, and vote on the advice and recommendations for the Department to adopt.

Agenda: The DIB's open portion of the meeting will take place on January 13, 2025, 3:00 p.m.-3:45 p.m. EST. The DIB DFO, Dr. Marina Theodotou, will open the meeting and introduce the DIB Chair, Michael Bloomberg for his welcome and opening remarks. The DIB Chair and members will discuss relevant innovation topics through open discussions, present their findings and recommendations to the DIB for deliberation, and vote on its two current studies: “A Pathway to Scaling Unmanned Weapon Systems” and “Scaling Nontraditional Defense Innovation”. Additionally, the DepSecDef will speak on the overall work of the DIB and the value of the recommendations it has provided to the Department. Next, the DFO will read written public comments into the meeting record, followed by closing remarks from the DIB's Chair, and adjournment of the open portion of the meeting by the DFO.

The DIB will continue in a closed session from 4:00 p.m. to 4:30 p.m. during which the DIB members will brief the SecDef on the findings and recommendations of their two current studies, and discuss classified matters relating to unmanned systems, scaling innovative processes and procedures, and approaches to strengthen how the Department engages with Industry to drive faster tech adoption.

Meeting Accessibility: Pursuant to 1009(a)(1) of the FACA and 41 CFR 102-3.140 and 102-3.150, the open meeting will be accessible to the public virtually on January 13, 2025, 3:00 p.m.-3:45 p.m. EST. Members of the public wishing to attend the meeting virtually will be able to access a link published on the DIB website the morning of the meeting.

In accordance with 1009(d) of the FACA and 41 CFR 102-3.155, the DoD has determined that part of the DIB meeting will be closed to the public on January 13th, from 4:00 p.m. to 4:30 p.m. Specifically, the DDIU as the DIB Sponsor, in consultation with the DoD Office of General Counsel, has determined in writing that this portion of the meeting will be closed to the public because the DIB will consider matters covered by 5 U.S.C. 552b(c)(1). The determination is based on the classified nature of discussions related to national security. Such classified material is so intertwined with the unclassified material that it cannot reasonably be segregated into separate discussions without defeating the effectiveness and meaning of the overall meeting. To permit this portion of the meeting to be open to the public would preclude discussion of such matters and would greatly diminish the ultimate utility of the DIB's findings and recommendations to the SecDef.

Written Statements: Pursuant to 41 CFR 102-3.150(6) and 102-3.140 and 1009(a)(3) of the FACA, the public or interested organizations may submit written comments or statements to the DIB in response to the stated agenda of the meeting or regarding the DIB's mission in general. Written comments or statements should be submitted to Dr. Marina Theodotou, the DFO, via email to osd.innovation@mail.mil. Comments or statements must include the author's name, title or affiliation, address, and daytime phone number. The DFO must receive written comments or statements being submitted in response to the agenda set forth in this notice by 12:00 p.m. on January 12, 2025, to be considered by the DIB. The DFO will review all timely submitted written comments or statements with the DIB Chair and ensure the comments are provided to all members before the meeting. Written comments or statements received after January 12th may not be provided to the DIB until its next scheduled meeting. Please note that all submitted comments and statements will be treated as public documents and will be made available for public inspection, including, but not limited to, being posted on the DIB's website.

Dated: January 14, 2025.
Stephanie J. Bost,
Alternate OSD Federal Register Liaison Officer, Department of Defense.

[FR Doc. 2025-01204 Filed 1-16-25; 8:45 am]

BILLING CODE 6001-FR-P